DEPARTMENT OF COMMERCE

Bureau of Industry and Security

15 CFR Part 756

[Docket No. 060602146-6146-01]

RIN 0694-AD78

Authorization To Appoint Any Commerce Department Employee To Be Appeals Coordinator in Certain Administrative Appeals

AGENCY: Bureau of Industry and Security, Commerce.

ACTION: Final rule.

SUMMARY: This rule revises Section 756.2 of the Export Administration Regulations (EAR) to authorize the Under Secretary for Industry and Security to designate any employee of the Department of Commerce to be the appeals coordinator for appeals of administrative actions taken under part 756 of the EAR. Such designation of employees from outside the Bureau of Industry and Security shall require the concurrence of the head of the operating unit in which that employee is employed. Prior to publication of this rule, only a “BIS official” might have been designated as appeals coordinator.

DATES: This rule is effective June 13, 2006.

FOR FURTHER INFORMATION CONTACT: William Arvin, Regulatory Policy Division, Office of Exporter Services, warvin@bis.doc.gov, 202 482 2440.

SUPPLEMENTARY INFORMATION:

Background

Part 756 of the EAR provides the procedures for appeal of administrative actions taken by BIS under the Export Administration Act or the Export Administration Regulations. The procedures of part 756 apply to actions other than the issuance, amendment, revocation or appeal of a regulation, and most enforcement actions taken under part 764 or 766 of the EAR. Part 756 authorizes the Under Secretary for Industry and Security to designate an “appeals coordinator to assist in the review and processing of an appeal * * *.” Prior to publication of this rule, part 756 authorized the Under Secretary for Industry and Security to designate “any BIS official” as appeals coordinator. This rule authorizes the Under Secretary for Industry and Security to designate any employee of the Department of Commerce to be the appeals coordinator. The Under Secretary for Industry and Security must have the concurrence of the head of the operating unit in which the employee is employed to make such a designation of a Department of Commerce employee who is not an employee of BIS.

The agency is making this change, which is administrative in nature, in order to provide the Under Secretary and the Department of Commerce with additional flexibility in allocating limited legal and official staff resources to the review and processing of appeals under part 756. The authority to decide appeals will remain with the Under Secretary, in accordance with section 756.2(c)(1) of the EAR, subject to the Under Secretary's authority to delegate that function to the Deputy Under Secretary or another BIS official in accordance with section 756.2(a). Moreover, this change will not affect the Under Secretary's authority to consider recommendations or other relevant information (from either the appeals coordinator or any other source) in deciding appeals, in accordance with section 756.2(c)(1). Nor will this change affect the substance of the agency's ongoing decision-making activities.

Rulemaking Requirements

1. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This rule does not involve any collections of information that are subject to the Paperwork Reduction Act.

3. This rule does not contain policies with Federalism implications as this term is defined in Executive Order 13132.

4. Pursuant to 5 U.S.C. 553, the provisions of the Administrative Procedure Act requiring a notice of proposed rulemaking and the opportunity for public comment are waived, because this regulation involves a rule of agency procedure. No other law requires that a notice of proposed rulemaking and an opportunity for public comment be given for this rule. Because a notice of proposed rulemaking and an opportunity for public comment are not required to be given for this rule under the Administrative Procedure Act or by any other law, the analytical requirements of the Regulatory Flexibility Act (5 U.S.C. 601 et seq.) are not applicable.

List of Subjects in 15 CFR Part 756

Administrative practice and procedure, Exports, Penalties.

Accordingly, part 756 of the Export Administration Regulations (15 CFR parts 730-799) are amended as follows:

PART 756—[AMENDED]

1. The authority citation for 15 CFR part 756 continues to read:

Authority: 50 U.S.C. app. 2401 et seq.; 50 U.S.C. 1701 et seq.; E.O. 13222, 66 FR 44025, 3 CFR, 2001 Comp., p. 783; Notice of August 2, 2005, 70 FR 45273 (August 5, 2005).

2. Section 756.2 is amended by revising the second sentence of paragraph (a), by adding a sentence immediately following the second sentence of paragraph (a) and by revising paragraph (b)(4)(v) to read as follows:

§ 756.2 Appeal from an administrative action.

(a) Review and appeal officials. * * * In addition, the Under Secretary may designate any employee of the Department of Commerce to be an appeals coordinator to assist in the review and processing of an appeal under this part. If such employee is not an employee of BIS, such designation may be made only with the concurrence of the head of the operating unit in which that employee is employed. * * *

(b) * * *

(4) * * *

(v) Report. Any person designated by the Under Secretary to conduct an informal hearing shall submit a written report containing a summary of the hearing and recommend action to the Under Secretary.

* * * * *

Dated: June 6, 2006.
Matthew S. Borman,
Deputy Assistant Secretary for Export Administration.

[FR Doc. E6-9220 Filed 6-12-06; 8:45 am]

BILLING CODE 3510-33-P